DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning Write Your Own Companies requirements to submit financial data to FEMA on a monthly basis.

SUPPLEMENTARY INFORMATION: Under the Write-Your-Own (WYO) Program, FEMA regulation 44 CFR 62.3 authorizes Federal Insurance Administrator to enter into arrangements with individual private sector insurance companies that are licensed to engage in the business of property insurance. These companies may offer flood insurance coverage to eligible property owners utilizing their customary business practices. To facilitate the marketing of flood insurance, the Federal Government will be a guarantor of flood insurance coverage for WYO Company policies issued under the WYO arrangement. To insure that any policyholder money is accounted for and appropriately expended, the Federal Insurance and Mitigation Administration (FIMA) and WYO companies implemented a Financial Control Plan under FEMA regulation 44 CFR part 62, Appendix B. This Plan requires that each WYO Company submit financial data on a monthly basis. The regulation explains the operational and financial control procedures governing the issuance of flood insurance coverage under the National Flood Insurance Program (NFIP) by private sector property insurance companies under the WYO Program.

Collection of Information

Title: Write-Your-Own (WYO) Program.

Type of Information Collection: Extension of a currently approved collection.

OMB Number: 1660-0020.

Form Numbers: None.

Abstract: Under the Write Your Own (WYO) Program, private sector insurance companies may offer flood insurance to eligible property owners. The Federal Government is guarantor of flood insurance coverage for WYO companies, issued under the WYO arrangements. In order to maintain adequate financial control over Federal funds, the NFIP requires that WYO companies submit a monthly financial report. The NFIP examines the data to ensure that policyholder funds are accounted for and appropriately expended.

Affected Public: Business or Other For-Profit.

Estimated Total Annual Burden Hours: 679 hours.

Annual Burden Hours
Project/activity (survey, form(s), focus group, worksheet, etc.) | No. of respondents (A) | Frequency of responses (B) | Burden hours per respondent (C) | Annual responses (A×B) | Total annual burden hours (A×B×C)
Financial Report | 97 | 12 | .59 hrs (35 minutes) | 1,164 | 687

Estimated Cost: Average cost of $171.00 per respondent for all 12 monthly financial reports ($14.00 per report). Combined Cost-All Respondents totals $16,332.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology,e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Kevin Montgomery, Financial Management Specialist, Federal Insurance and Mitigation Administration, (301) 918-1453 for additional information. You may contact the Records Management Section for copies of the proposed collection of information at telephone number (202) 646-2625.

Dated: July 20, 2005.
George S. Trotter,
Acting Branch Chief, Information Resources Management Branch, Information Technology Services Division.

[FR Doc. 05-14663 Filed 7-25-05; 8:45 am]

BILLING CODE 9110-11-P